DEPARTMENT OF ENERGY

Federal Energy Regulatory Commission

[Project No. 7242-060]

Notice of Reasonable Period of Time for Water Quality Certification Application: STS Hydropower, LLC

On August 14, 2024, the California State Water Resources Control Board (Water Board) submitted to the Federal Energy Regulatory Commission (Commission) notice that it received a request for a Clean Water Act section 401(a)(1) water quality certification as defined in 40 CFR 121.5, from STS Hydropower, LLC, in conjunction with the above captioned project on July 15, 2024. We hereby notify the Water Board of the following:

Date of Receipt of the Certification Request: July 15, 2024.

Reasonable Period of Time to Act on the Certification Request: One year, July 15, 2025.

If the Water Board fails or refuses to act on the water quality certification request on or before the above date, then the certifying authority is deemed waived pursuant to section 401(a)(1) of the Clean Water Act, 33 U.S.C. 1341(a)(1).

Dated: August 20, 2024.
Debbie-Anne A. Reese,
Acting Secretary.

[FR Doc. 2024-19101 Filed 8-23-24; 8:45 am]

BILLING CODE 6717-01-P